DEPARTMENT OF TRANSPORTATION

Federal Motor Carrier Safety Administration

49 CFR Part 325

[Docket No. FMCSA-2006-24065]

RIN-2126-AB31

Compliance With Interstate Motor Carrier Noise Emission Standards: Exhaust Systems

AGENCY: Federal Motor Carrier Safety Administration, DOT.

ACTION: Direct final rule; confirmation of effective date.

SUMMARY: The Federal Motor Carrier Safety Administration (FMCSA) confirms the effective date of the direct final rule, titled “Compliance with Interstate Motor Carrier Noise Emission Standards: Exhaust Systems,” published on September 20, 2010, in the Federal Register (75 FR 57191). This rule eliminates turbochargers from the list of equipment considered to be noise dissipative devices.

DATES: This rule is effective November 19, 2010.

ADDRESSES: The docket for this rulemaking (FMCSA-2006-24065) is available for inspection at http://www.regulations.gov. If you do not have access to the Internet, you may also view the docket by visiting the Docket Management Facility in Room W12-140 on the ground floor of the Department of Transportation West Building, 1200 New Jersey Avenue, SE., Washington, DC 20590, between 9 a.m. and 5 p.m. e.t., Monday through Friday, except Federal holidays.

FOR FURTHER INFORMATION CONTACT: If you have questions on this rule, e-mail or call Mr. Brian Routhier, Vehicle and Roadside Operations Division (MC-PSV), Office of Bus and Truck Standards and Operations, at FMCSA_MCPSV@dot.gov or (202) 366-1225.

SUPPLEMENTARY INFORMATION: On September 20, 2010, FMCSA published a direct final rule entitled “Compliance with Interstate Motor Carrier Noise Emission Standards: Exhaust Systems” in the Federal Register (75 FR 57191). The direct final rule amends 49 CFR part 325 by removing turbochargers from the list of equipment considered to be noise dissipative devices. FMCSA used the direct final rule procedures (75 FR 29915, May 28, 2010) because it was a routine and non-controversial amendment, and the Agency did not expect any adverse comments. The direct final rule advised the public that unless a written adverse comment, or a written notice of intent to submit such an adverse comment, was received by October 20, 2010, the Agency would provide notice confirming the effective date. Because FMCSA did not receive any comments to the docket by October 20, 2010, the direct final rule will become effective November 19, 2010.

Issued on: October 27, 2010.
Larry W. Minor,
Associate Administrator for Policy.

[FR Doc. 2010-27797 Filed 11-2-10; 8:45 am]

BILLING CODE 4910-EX-P